DEPARTMENT OF HEALTH AND HUMAN SERVICES

Health Resources and Service Administration

Advisory Commission on Childhood Vaccines

AGENCY: Health Resources and Service Administration, HHS.

ACTION: Notice of meeting.

SUMMARY: In accordance with section 10(a)(2) of the Federal Advisory Committee Act (Public Law 92-463), notice is hereby given that a meeting is scheduled for the Advisory Commission on Childhood Vaccines (ACCV). This meeting will be open to the public. Information about the ACCV and the agenda for this meeting can be obtained by accessing the following Web site: http://www.hrsa.gov/advisorycommittees/childhoodvaccines/index.html.

DATES: The meeting will be held on December 1 and 2, 2016, at 10:00 a.m. EST.

ADDRESSES: This meeting will be held via Adobe Connect Webinar. The public can join the meeting by:

1. (Audio Portion) Calling the conference phone number 800-779-3561 and providing the following information:

Leader Name: Dr. Narayan Nair.

Password: 8164763.

2. (Visual Portion) Connecting to the ACCV Adobe Connect Pro Meeting using the following URL: https://hrsa.connectsolutions.com/accv/ (copy and paste the link into your browser if it does not work directly, and enter as a guest). Participants should call and connect 15 minutes prior to the meeting in order for logistics to be set up. If you have never attended an Adobe Connect meeting, please test your connection using the following URL: https://hrsa.connectsolutions.com/common/help/en/support/meeting_test.htm and get a quick overview by following URL: http://www.adobe.com/go/connectpro_overview.

FOR FURTHER INFORMATION CONTACT: Anyone requesting information regarding the ACCV should contact Annie Herzog, Program Analyst, Division of Injury Compensation Programs (DICP), Health Resources and Services Administration in one of three ways: (1) Send a request to the following address: Annie Herzog, Program Analyst, DICP, Health Resources and Services Administration, 5600 Fishers Lane, 08N146B, Rockville, Maryland 20857; (2) call (301) 443-6593; or (3) send an email to aherzog@hrsa.gov.

At this time the meeting is scheduled to be held over 2 days via conference call and Adobe Connect webinar; however, meeting times and locations could change. For the latest information regarding meeting start time and location, please check the ACCV Web site: http://www.hrsa.gov/advisorycommittees/childhoodvaccines/index.html.

SUPPLEMENTARY INFORMATION: The ACCV was established by section 2119 of the Public Health Service Act (the Act) (42 U.S.C. 300aa-19), as enacted by Public Law (Pub. L.) 99-660, and as subsequently amended, and advises the Secretary of Health and Human Services (the Secretary) on issues related to implementation of the National Vaccine Injury Compensation Program (VICP).

Other activities of ACCV include: Recommending changes to the Vaccine Injury Table at its own initiative or as the result of the filing of a petition; advising the Secretary in implementing section 2127 of the Act regarding the need for childhood vaccination products that result in fewer or no significant adverse reactions; surveying federal, state, and local programs and activities related to gathering information on injuries associated with the administration of childhood vaccines, including the adverse reaction reporting requirements of section 2125(b) of the Act; advising the Secretary on the methods of obtaining, compiling, publishing, and using credible data related to the frequency and severity of adverse reactions associated with childhood vaccines; consulting on the development or revision of Vaccine Information Statements; and recommending to the Director of the National Vaccine Program research related to vaccine injuries which should be conducted to carry out VICP.

The agenda items for the December 2016 meeting will include, but are not limited to, updates from the Division of Injury Compensation Programs (DICP), Department of Justice (DOJ), National Vaccine Program Office (NVPO), Immunization Safety Office (Centers for Disease Control and Prevention), National Institute of Allergy and Infectious Diseases (National Institutes of Health) and Center for Biologics, Evaluation and Research (Food and Drug Administration). A draft agenda and additional meeting materials will be posted on the ACCV Web site (http://www.hrsa.gov/advisorycommittees/childhoodvaccines/index.html) prior to the meeting. Agenda items are subject to change as priorities dictate.

Members of the public will have the opportunity to provide comments. Oral comments will be honored in the order they are requested and may be limited as time allows. Requests to make oral comments or provide written comments to the ACCV should be sent to Annie Herzog using the address and phone number above by November 29, 2016. Individuals who need special assistance, such as sign language interpretation or other reasonable accommodations, should notify Annie Herzog, using the address and phone number above at least 10 days prior to the meeting.

Jason E. Bennett,
Director, Division of the Executive Secretariat.

[FR Doc. 2016-25875 Filed 10-25-16; 8:45 am]

BILLING CODE 4165-15-P